DEPARTMENT OF AGRICULTURE

Forest Service

Forest Counties Payments Committee Meeting; Cancellation

AGENCY: Forest Service, USDA.

ACTION: Notice.

SUMMARY: Due to the conflicting schedules of committee members, the Forest Counties Payments Committee meeting that was scheduled for August 23, 2002, in Rhinelander, WI, is cancelled. The meeting will be rescheduled for sometime in September. Date and location for the September meeting will be published in the Federal Register within the next two weeks.

FOR FURTHER INFORMATION CONTACT: Randle G. Phillips, Executive Director, Forest Counties Payments Committee, (202) 208-6574 or via e-mail at rphillips01@fs.fed.us.

SUPPLEMENTARY INFORMATION: The Forest Counties Payments Committee was created by the 2001 Interior and Related Agencies Appropriations Act (Pub. L. 106-291). The committee meets periodically in different locations to discuss and make recommendations to Congress on a long term solution for making Federal payments to eligible States and counties in which Federal lands are situated.

Notice of the now-cancelled Rhinelander, WI, meeting was published in the Federal Register on August 1, 2002 (67FR49903).

Dated: August 8, 2002.
Mary H. Davis,
Acting Deputy Chief, Programs and Legislation.

[FR Doc. 02-20557 Filed 8-13-02; 8:45 am]

BILLING CODE 3410-11-P